DEPARTMENT OF HOUSING AND URBAN DEVELOPMENT

[Docket No. FR-7104-N-10; OMB Control No.: 2577-0301]

60-Day Notice of Proposed Information Collection: Capital Fund High Risk/Receivership/Substandard/Troubled Program

AGENCY: Office of the Assistant Secretary for Public and Indian Housing (PIH), HUD.

ACTION: Notice.

SUMMARY: The Department of Housing and Urban Development (HUD) is seeking approval from the Office of Management and Budget (OMB) for the information collection described below. In accordance with the Paperwork Reduction Act, HUD is requesting comment from all interested parties on the proposed post-award collection of information. The purpose of this notice is to allow for 60 days of public comment.

DATES: Comments Due Date: August 25, 2025.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Dawn Martin, Program Analyst, Department of Housing and Urban Development, 451 7th Street SW, Room 3180, Washington, DC 20410.

FOR FURTHER INFORMATION CONTACT: Dawn Martin, Program Analyst, Department of Housing and Urban Development, 451 7th Street SW, Room 3180, Washington, DC 20410; email PIH-PRAPublicComments@hud.gov; telephone number (202) 402-6488. This is not a toll-free number. HUD welcomes and is prepared to receive calls from individuals who are deaf or hard of hearing, as well as individuals with speech or communication disabilities. To learn more about how to make an accessible telephone call, please visit https://www.fcc.gov/consumers/guides/telecommunications-relays-service-trs. Copies of available documents submitted to OMB may be obtained from Ms. Martin.

SUPPLEMENTARY INFORMATION: This notice informs the public that HUD is seeking approval from OMB for the information collection described in Section A.

A. Overview of Information Collection

Title of Information Collection: Capital Fund High Risk/Receivership/Substandard/Troubled Program.

OMB Approval Number: 2577-0301.

Type of Request: Post-award information collection.

Description of the need for the information and proposed use: This supporting statement renews the post-award information collection for competitive awards under the Capital Fund Program. Post-award information includes annual financial and performance reporting, audits, and award closeout. Reporting also includes compliance with the Award Term in Appendix A of 2 CFR part 170. Grantees must also adhere to the application submission requirements in the NOFO, including implementing the project proposed with the application, including how use of funding will improve the targeted Asset Management Property (AMP). Further, grantees are required to maintain eligibility for the life of the award, including all program-specific threshold eligibility requirements.

The pre-award information collection for the Capital Fund Program is removed from this control number and may be moved to OMB Control Number 2501-0044.

The Capital Fund Program provides funding for costs associated with public housing asset improvement to Public Housing Agencies (PHAs) that are either in receivership, designated troubled or substandard, or otherwise deemed high risk. Funding is focused on improving public housing asset management property performance in two core areas: Physical Condition and Occupancy.

Physical Condition: Improve the physical condition of public housing. Successful applicants must demonstrate a comprehensive strategy on how the funds will provide residents with access to safe, accessible, and decent public housing through improved public housing assets.

Management: Increase occupancy and reduce long-term vacancies through capital investment and affirmative marketing.

Information collection | Number of respondents | Frequency of response per respondents | Total annual responses | Burden hour per response | Annual burden hours | Hourly cost per response | Annual cost
Annual SF-425, project performance and other annual reporting | 5 | 4 | 20 | 1 | 5 | $51.60 | $258
Closeout and Final Narrative | 5 | 1 | 5 | 2 | 10 | 51.60 | 516
Record Retention | 5 | 4 | 20 | 5 | 5 | 51.60 | 258
Totals | 15 |  | 45 |  | 20 |  | 1,032

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

HUD encourages interested parties to submit comment in response to these questions.

C. Authority

Section 2 of the Paperwork Reduction Act of 1995, 44 U.S.C. 3507.

Laura Kunkel,
Acting Director, Office of Policy, Program, & Legislative Initiatives.

[FR Doc. 2025-11840 Filed 6-25-25; 8:45 am]

BILLING CODE 4210-67-P